DEPARTMENT OF COMMERCE

Foreign-Trade Zones Board

Order No. 1562

Approval of Manufacturing Authority, Within Foreign-Trade Zone 38, Spartanburg County, SC, Kittel Supplier USA, Inc., (Automotive Door Trim Components)

Pursuant to its authority under the Foreign-Trade Zones Act of June 18, 1934, as amended (19 U.S.C. 81a-81u) (the Act), the Foreign-Trade Zones Board (the Board) adopts the following Order:

WHEREAS, the South Carolina State Ports Authority, grantee of FTZ 38, has requested authority under Section 400.28 (a)(2) of the Board's regulations on behalf of Kittel Supplier USA, Inc., to assemble automotive door trim components under FTZ procedures within FTZ 38 Site 3, Duncan, South Carolina (FTZ Docket 32-2007, filed 8-3-2007);

WHEREAS, notice inviting public comment has been given in the Federal Register (72 FR 45219, 8-13-2007);

WHEREAS, the Board adopts the findings and recommendations of the examiner's report, and finds that the requirements of the FTZ Act and the Board's regulations are satisfied, and that approval of the application is in the public interest;

NOW, THEREFORE, the Board hereby grants authority for the assembly of automotive door trim components within FTZ 38 for Kittel Supplier USA, Inc., as described in the application and Federal Register notice, subject to the Act and the Board's regulations, including Section 400.28.

Signed at Washington, DC, this 12th day of June 2008.

David M. Spooner,
Assistant Secretary of Commerce for Import Administration, Alternate Chairman Foreign-Trade Zones Board.

Attest:

Andrew McGilvray,
Executive Secretary.

[FR Doc. E8-14389 Filed 6-24-08; 8:45 am]

BILLING CODE 3510-DS-S